DEPARTMENT OF JUSTICE

Notice of Lodging of a Consent Decree Under CERCLA

Notice is hereby given that on May 4, 2010, a proposed Consent Decree in United States v. AK Steel et al., Civil Action No. 10-cv-996 was lodged with the United States District Court for the Northern District of Ohio.

In this action, the United States alleges that Defendants are liable under Sections 106, 107 and 113(g)(2) of the Comprehensive Environmental Response, Compensation, and Liability Act of 1980, as amended (“CERCLA”), 42 U.S.C. 9606, 9607 and 9613(g)(2), for implementation of remedial action and recovery of response costs incurred and to be incurred by the United States at the Chemical Recovery Systems Superfund Alternative Site in Elyria, Ohio. Under the proposed Consent Decree, the Defendants have agreed to: (1) Implement injunctive measures at an estimated cost of $2.1 million in order to remediate contaminated soil and groundwater; (2) implement institutional controls; (3) reimburse the United States $475,000 in past response costs; and (4) reimburse the United States for its future response costs.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. AK Steel et al., D.J. Ref. 90-11-3-09505.

The proposed Consent Decree may be examined at the Office of the United States Attorney, Northern District of Ohio, 801 West Superior Avenue, Suite 400, Cleveland, OH 44113 (contact Assistant United States Attorney Steven J. Paffilas (216) 622-3698), and at U.S. Environmental Protection Agency, Region 5, 77 West Jackson Boulevard, Chicago, IL 60604-3590 (contact Associate Regional Counsel Tom Nash (312) 886-0552). During the public comment period, the proposed Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $60.75 for a copy of the Consent Decree including all attachments or $26.00 for a copy of the Consent Decree only (25 cents per page reproduction cost) payable to the U.S. Treasury or, if by e-mail or fax, forward a check in that amount to the Consent Decree Library at the stated address.

Maureen Katz,
Assistant Chief, Environmental Enforcement Section, Environment and Natural Resources Division.

[FR Doc. 2010-12321 Filed 5-21-10; 8:45 am]

BILLING CODE 4410-15-P